DEPARTMENT OF COMMERCE

International Trade Administration

A-570-853

Notice of Initiation and Preliminary Results of Changed Circumstances Review and Intent to Revoke the Antidumping Duty Order: Bulk Aspirin from the People's Republic of China

AGENCY: Import Administration, International Trade Administration, Department of Commerce.

ACTION: Notice of initiation and preliminary results of changed circumstances review and intent to revoke order.

SUMMARY: In accordance with 19 CFR 351.216(b), Bimeda, Inc., a U.S. importer of the subject merchandise and an interested party in this proceeding, filed a request for a changed circumstances review of the antidumping duty order on bulk aspirin from the People's Republic of China. In response to this request, the Department of Commerce is initiating a changed circumstances review and issuing a notice of preliminary intent to revoke the order on bulk aspirin from the People's Republic of China. Interested parties are invited to comment on these preliminary results.

EFFECTIVE DATE: June 24, 2004.

FOR FURTHER INFORMATION CONTACT: Scott Holland or Julie Santoboni, Import Administration, International Trade Administration, U.S. Department of Commerce, 14th Street and Constitution Avenue, NW, Washington, DC 20230; telephone (202) 482-1279 or (202) 482-4194, respectively.

SUPPLEMENTARY INFORMATION:

Background

On July 11, 2000, the Department of Commerce (“the Department”) published an antidumping duty order on bulk aspirin from the People's Republic of China (“PRC”). See Notice of Antidumping Duty Order: Bulk Aspirin from the People's Republic of China, 65 FR 42673 (July 11, 2000). On April 30, 2004, Bimeda, Inc. (“Bimeda”), an importer of bulk aspirin from the PRC and an interested party in this proceeding, requested that the Department revoke the antidumping duty order on bulk aspirin from the PRC through the initiation of a changed circumstances review.

According to Bimeda, revocation is warranted because there is no longer a producer of bulk aspirin in the United States. Bimeda asserts that Rhodia, Inc., (“Rhodia”), the only petitioner in the original investigation and the only U.S. producer at the time the order was issued, closed its sole production facility related to the manufacture of bulk aspirin in the United States on or about December 20, 2002. Bimeda provided a press release, a news article, an excerpt from Rhodia's 2001 annual report to the Securities and Exchange Commission, and a product datasheet posted on Rhodia's corporate website to support its contention. Accordingly, Bimeda asserts that the order should be revoked effective as of the date the petitioner ceased manufacture of bulk aspirin in the United States (i.e., approximately December 20, 2002).

In response to a request from the Department, on May 25, 2004, Rhodia stated that it had ceased production at its U.S. aspirin plant on February 28, 2003. Rhodia also indicated that it is still liquidating its inventory of bulk aspirin produced in the United States.

Scope of the Order

The product covered by this review is bulk acetylsalicylic acid, commonly referred to as bulk aspirin, whether or not in pharmaceutical or compound form, not put up in dosage form (tablet, capsule, powders or similar form for direct human consumption). Bulk aspirin may be imported in two forms, as pure ortho-acetylsalicylic acid or as mixed ortho-acetylsalicylic acid. Pure ortho-acetylsalicylic acid can be either in crystal form or granulated into a fine powder (pharmaceutical form). This product has the chemical formula C9H8O4. It is defined by the official monograph of the United States Pharmacopoeia 23 (“USP”). It is currently classifiable under the Harmonized Tariff Schedule of the United States (“HTSUS”) subheading 2918.22.1000.

Mixed ortho-acetylsalicylic acid consists of ortho-acetylsalicylic acid combined with other inactive substances such as starch, lactose, cellulose, or coloring materials and/or other active substances. The presence of other active substances must be in concentrations less than that specified for particular nonprescription drug combinations of aspirin and active substances as published in the Handbook of Nonprescription Drugs, eighth edition, American Pharmaceutical Association. This product is currently classifiable under HTSUS subheading 3003.90.0000.

Although the HTSUS subheadings are provided for convenience and customs purposes, the written description of the merchandise under review is dispositive.

Initiation of Changed Circumstances Review, Preliminary Results, and Intent to Revoke Antidumping Duty Order

Pursuant to sections 751(d)(1) and 782(h)(2) of the Tariff Act of 1930, as amended (“the Act”), the Department may revoke an antidumping or countervailing duty order based on a review under section 751(b) of the Act (i.e., a changed circumstances review). Section 751(b)(1) of the Act requires a changed circumstances review to be conducted upon receipt of a request which shows changed circumstances sufficient to warrant a review.

Section 351.222(g) of the Department's regulations provides that the Department will conduct a changed circumstances review under 19 CFR 351.216, and may revoke an order (in whole or in part), if it determines that producers accounting for substantially all of the production of the domestic like product to which the order (or the part of the order to be revoked) pertains have expressed a lack of interest in the relief provided by the order, in whole or in part, or if changed circumstances exist sufficient to warrant revocation. Furthermore, 19 CFR 351.221(c)(3)(ii) permits the Department to combine the notice of initiation of a changed circumstances review and the notice of preliminary results in a single notice, if the Department concludes that expedited action is warranted.

In this case, the Department finds that the information submitted provides sufficient evidence of changed circumstances to warrant a review. Therefore, in accordance with sections 751(d)(1) and 782 (h)(2) of the Act, and 19 CFR 351.216 and 351.222(g), based on the information provided by Bimeda, we are initiating this changed circumstances review. Furthermore, since the information on the record indicates there is no longer any evidence of U.S. production of the domestic like product, we determine that expedited action is warranted and we preliminarily find that the continued relief provided by the order with respect to bulk aspirin from the PRC is no longer of interest to the domestic interested party in these proceedings. Because we have concluded that expedited action is warranted, we are combining these notices of initiation and preliminary results. Therefore, we preliminarily find that the request from Bimeda meets all of the criteria under 19 CFR 351.222(g) and thus, we intend to revoke the order with respect to imports of bulk aspirin from the PRC.

If the final revocation occurs, we intend to instruct U.S. Customs and Border Protection (“CBP”) to liquidate without regard to antidumping duties all unliquidated entries of bulk aspirin, and to refund any estimated antidumping duties collected on all entries of bulk aspirin entered, or withdrawn from warehouse, for consumption on or after July 1, 2003, the earliest date for which entries of bulk aspirin have not been subject to an administrative review. We will also instruct CBP to pay interest on such refunds with respect to the subject merchandise entered, or withdrawn from warehouse, for consumption on or after July 1, 2003, in accordance with section 778 of the Act. The current requirement for a cash deposit of estimated antidumping duties on bulk aspirin from the PRC will continue unless and until we publish a final decision to revoke.

Public Comment

Any interested party may request a hearing within 30 days of publication of this notice. See 19 CFR 351.310(c). Any hearing, if requested, will be held 44 days after the date of publication of this notice, or the first working day thereafter. Interested parties may submit case briefs and/or written comments not later than 30 days after the date of publication of this notice. Rebuttal briefs and rebuttals to written comments, which must be limited to issues raised in such briefs or comments, may be filed not later than 37 days after the date of publication. All written comments shall be submitted in accordance with 19 CFR 351.303. Consistent with section 351.216(e), the Department will publish the final results of this changed circumstances review no later than 270 days after the date on which this review was initiated, or within 45 days if all parties agree to our preliminary finding.

We are issuing and publishing this finding and notice in accordance with sections 751(b)(1) and 777(i)(1) of the Act and section 351.216 of the Department's regulations.

Dated: June 18, 2004.
James J. Jochum,
Assistant Secretary for Import Administration.

[FR Doc. 04-14359 Filed 6-23-04; 8:45 am]

BILLING CODE 3510-DS-S